DEPARTMENT OF ENERGY

Federal Energy Regulatory Commission

[Docket No. RD10-8-000]

North American Electric Reliability Corporation; Notice of Technical Conference

Take notice that the Federal Energy Regulatory Commission (Commission) will hold a staff-led Technical Conference to discuss issues related to the interpretations of Reliability Standard CIP-006-2 in the above-referenced docket. The Technical Conference will be held on Tuesday, October 25, 2011, from 9 a.m. to 1 p.m. (EST) in the Commission Meeting Room at the Commission's headquarters at 888 First Street, NE., Washington, DC 20426. The Technical Conference will be open for the public to attend and advance registration is not required.

The Technical Conference will explore the risks of leaving dial-up intelligent electronic devices that are part of the Bulk-Power System and that use non-routable protocols physically unprotected. The Commission is interested in: (1) Information on the number of Bulk-Power System assets that are networked using non-routable protocols; (2) the proportion of those assets that are currently physically unprotected; (3) the risks associated with leaving such assets physically unprotected; and (4) methods for mitigating such risks.

The Technical Conference will also explore monitoring physical access not only when authorized personnel enter a controlled access area, such as the physical security perimeter to critical cyber assets, but also when authorized personnel leave the controlled access area. The Commission is interested in the level of security attained by monitoring both physical ingress and egress into controlled access areas.

Those interested in speaking at the conference should notify the Commission by close of business October 7, 2011 by completing an online form describing the topics that they wish to address: https://www.ferc.gov/whats-new/registration/naerc-10-25-speaker-form.asp. Due to time constraints, we may not be able to accommodate all those interested in speaking. The Commission will issue a subsequent notice that will provide the detailed agenda, including panel speakers.

A free webcast of this event is available through http://www.ferc.gov. Anyone with Internet access who desires to view this event can do so by navigating to www.ferc.gov's Calendar of Events and locating this event in the calendar. The event will contain a link to its webcast. The Capitol Connection provides technical support for the free webcasts. It also offers access to this event via television in the DC area and via phone bridge for a fee.

FERC conferences are accessible under section 508 of the Rehabilitation Act of 1973. For accessibility accommodations please send an e-mail to accessibility@ferc.gov or call toll free (866) 208-3372 (voice) or (202) 502-8659 (TTY), or send a fax to (202) 208-2106 with the requested accommodations.

For further information please contact Sarah McKinley at (202) 502-8368 or sarah.mckinley@ferc.gov.

Dated: September 26, 2011.
Kimberly D. Bose,
Secretary.

[FR Doc. 2011-25212 Filed 9-29-11; 8:45 am]

BILLING CODE 6717-01-P